DEPARTMENT OF DEFENSE

Office of the Secretary

Department of Defense Mandatory Declassification Review Addresses

AGENCY: Department of Defense.

ACTION: Notice.

SUMMARY: Pursuant to the Information Security Oversight Office's Classified National Security Information Directive No. 1, this notice provides Department of Defense addresses to which Mandatory Declassification Review requests may be sent. This notice benefits the public in advising them where to send such requests for declassification review and makes administrative corrections that were previously published on December 29, 2003 (68 FR 74949).

FOR FURTHER INFORMATION CONTACT: Mr. Robert Storer, 703-601-4722.

SUPPLEMENTARY INFORMATION: The following chart identifies the offices to which mandatory declassification review requests should be addressed:

OSD/JS—Washington Headquarters Services, Chief, Declassification and Historical Research Branch, Suite 501, 201 12th Street, Arlington, VA 22202.

Army—Department of the Army, Army Declassification Activity, ATTN: TAPC-PDD, Suite 509, 4600 N. Fairfax Drive, Arlington, VA 22203-1553.

Navy—Department of the Navy, Chief of Naval Operations, N09B11, RM 1D469, 2000 Navy Pentagon, Washington, DC 20350-2000.

Air Force—Department of the Air Force, 11 CS/SCSR (MDR), 1000 Air Force Pentagon, Washington, DC 20330-1000.

Marine—Commandant of the Marine Corps, U.S. Marine Corps, 2 Navy Annex, Room 1010, Washington, DC 20830-1775.

DARPA—Defense Advance Research Project Agency, 3701 North Fairfax Dr., Arlington, VA 22203-1714.

DCAA—Director, Defense Contract Audit Agency, ATTN: CPS, 8725 John J. Kingman Rd., Ste. 2135, Ft. Belvoir, VA 22060-6219.

DIA—Defense Intelligence Agency, ATTN: D A N-1A, Rm E4-234, Washington, DC 20340-5100.

DISA—Defense Information Systems Agency, ATTN: Security Division, MPS 6, 5111 Leesburg Pike, Ste. 100, Falls Church, VA 22041.

DSS—Defense Security Service, Office of FOIA & Privacy, 1340 Braddock Place, Alexandria, VA 22314-1651.

DLA—Defense Logistics Agency, ATTN: DLA/DSS-S, 8725 John J. Kingman Rd., Ste. 2533, Ft. Belvoir, VA 22060-6221.

NIMA—National Geospatial-Intelligence Agency, 4600 Sangamore Rd., Mail Stop D-10, Bethesda, MD 20816-5000.

NSA—National Security Agency, Information Policy Office, DC323 Room S2CW113, Suite 6884, Bldg SAB2, 9800 Savage Road, Ft. George G. Meads, MD 20755-6248.

DTRA—Defense Threat Reduction Agency, ATTN: SCR, 8725 John J. Kingman Rd., Ft. Belvoir, VA 22060-6201.

EUCOM—U.S. European Command (HQ USEUCOM), Attn: ECJ1-AX (FOIA Officer), SMSgt Greg Outlaw, USAF, Unit 30400, APO, AE 09131.

SOUTHCOM—U.S. Southern Command, Attn: Mr. Marco T. Villalobos, SCJ1-A (FOIA), 3511 NW 91st Avenue, Miami, FL 33172-1217.

SOCOM—U.S. Special Operations Command, Attn: Kathryn Meeks, SOCS-SJS-SI (FOIA), 7701 Tampa Point Boulevard, MacDill AFB, FL 33621-5323.

CENTCOM—U.S. Central Command, Attn: Jacqueline J. Scott, CCJ6-DM, 7115 South Boundary Blvd, MacDill AFB, FL 33621-5101.

NORTHCOM—U.S. Northern Command, HQNORAD, USNORTHCOM/CSM, Attn: Lynn Bruns, 250 Vandenberg Street, Suite B016, Peterson Air Force Base, CO 80914-3804.

JFCOM—U.S. Joint Forces Command, Attn: Ms. Joyce Neidlinpa, Code J024, 1562 Mitscher Ave, Suite 200, Norfolk, VA 23511-2488.

PACOM—U.S. Pacific Command, Attn: Maureen Jones, USPACOM FOIA Coordinator (J042), Administrative Support Division, Joint Secretariat, Box 28, Camp Smith, HI 96861-5025.

STRATCOM—U.S. Strategic Command, 901 SAC Blvd, STE 1C15, Offutt AFB, NE 68113-6653.

TRANSCOM—U.S. Transportation Command, Chief, Resources Information, Communications, and Records Management, Attn: TCJ6-RII, 508 Scott Drive, Bldg 1961, Scott AFB, IL 62225-5357.

Dated: June 25, 2004.
Patricia L. Toppings,
Alternate OSD Federal Register Liaison Officer, Department of Defense.

[FR Doc. 04-15074 Filed 7-1-04; 8:45 am]

BILLING CODE 5001-06-M